DEPARTMENT OF COMMERCE

International Trade Administration

[C-560-821, C-570-907, C-580-857]

Coated Free Sheet Paper from Indonesia, the People's Republic of China, and the Republic of Korea: Alignment of Final Countervailing Duty Determinations with Final Antidumping Duty Determinations

AGENCY: Import Administration, International Trade Administration, Department of Commerce.

SUMMARY: The Department of Commerce (the Department) is aligning the final determinations in the countervailing duty investigations of coated free sheet paper (CFS) from Indonesia, the People's Republic of China (PRC), and the Republic of Korea (Korea) with the final determinations in the companion antidumping investigations.

EFFECTIVE DATE: May 2, 2007.

FOR FURTHER INFORMATION CONTACT: Gene Calvert (Indonesia), David Layton (PRC), or Maura Jeffords (Korea), AD/CVD Operations, Import Administration, International Trade Administration, U.S. Department of Commerce, 14th Street and Constitution Avenue, NW, Washington, DC 20230; telephone: (202) 482-3586, (202) 482-0371, or (202) 482-3146, respectively.

Background: On November 20, 2006, the Department initiated the countervailing duty and antidumping duty investigations on CFS from Indonesia, the PRC, and Korea. See Notice of Initiation of Countervailing Duty Investigations: Coated Free Sheet Paper From the People's Republic of China, Indonesia, and the Republic of Korea, 71 FR 68546 (November 27, 2006), and Initiation of Antidumping Duty Investigations: Coated Free Sheet Paper from Indonesia, the People's Republic of China, and the Republic of Korea, 71 FR 68537 (November 27, 2006). The countervailing duty and antidumping duty investigations have the same scope with regard to the subject merchandise covered. On April 9, 2007, the Department published the preliminary affirmative countervailing duty determinations pertaining to CFS from Indonesia, the PRC, and Korea. See Coated Free Sheet Paper from Indonesia: Preliminary Affirmative Countervailing Duty Determination, 72 FR 17498 (April 9, 2007); Coated Free Sheet Paper From the People's Republic of China: Amended Preliminary Affirmative Countervailing Duty Determination, 72 FR 17484 (April 9, 2007) and; Coated Free Sheet Paper From the Republic of Korea: Preliminary Affirmative Countervailing Duty Determination, 72 FR 17507 (April 9, 2007). On March 26, 2007, the petitioner submitted a letter, in accordance with section 705(a)(1) of the Tariff Act of 1930, as amended (the Act), requesting alignment of the final countervailing duty determinations with the final determinations in the companion antidumping duty investigations of CFS from Indonesia, the PRC, and Korea.

Therefore, in accordance with section 705(a)(1) of the Act, and 19 C.F.R. 351.210(b)(4), we are aligning the final countervailing duty determinations on CFS from Indonesia, the PRC, and Korea with the final determinations in the companion antidumping duty investigations of CFS from Indonesia, the PRC, and Korea. The final countervailing duty determinations will be issued on the same date as the final antidumping duty determinations currently scheduled for August 13, 2007, the first business day following the August 12, 2007 deadline for the final antidumping duty determinations.

This notice is issued and published pursuant to section 705(a)(1) of the Act.

Dated: April 26, 2007.
David M. Spooner,
Assistant Secretary for Import Administration.

[FR Doc. E7-8375 Filed 5-1-07; 8:45 am]

BILLING CODE 3510-DS-S